DEPARTMENT OF ENERGY

Federal Energy Regulatory Commission

Combined Notice of Filings #2

Take notice that the Commission received the following electric rate filings:

Docket Numbers: ER10-2074-002; ER10-2097-004.

Applicants: Kansas City Power & Light Company, KCP&L Greater Missouri Operations Company.

Description: Kansas City Power and Light Company and KCP&L Greater Missouri Operations Company submits their Triennial Market Power Update for the Southwest Power Pool Region pursuant to Order No. 697.

Filed Date: 6/28/12.

Accession Number: 20120702-0004.

Comments Due: 5 p.m. ET 8/27/12.

Docket Numbers: ER10-2172-010; ER11-2016-005; ER10-2184-010; ER10-2183-007; ER10-1048-007; ER10-2176-011; ER10-2192-010; ER11-2056-004; ER10-2178-010; ER10-2174-010; ER11-2014-007; ER11-2013-007; ER10-3308-009; ER10-1017-006; ER10-1020-006; ER10-1145-006; ER10-1144-005; ER10-1078-006; ER10-1079-006; ER10-1080-006; ER11-2010-007; ER10-1081-006; ER10-2180-010; ER11-2011-006; ER11-2009-006; ER11-3989-005; ER10-1143-006; ER11-2780-003; ER11-2007-005; ER12-1223-004; ER11-2005-007.

Applicants: Baltimore Gas and Electric Company, Cassia Gulch Wind Park LLC, CER Generation, LLC, CER Generation II, LLC Commonwealth Edison Company, Constellation Energy Commodities Group, Inc., Constellation Energy Commodities Group Maine, LLC, Constellation Mystic Power, LLC, Constellation NewEnergy, Inc., Constellation Power Source Generation, Inc., Cow Branch Wind Power, L.L.C., CR Clearing, LLC, Criterion Power Partners, LLC, Exelon Energy Company, Exelon Framingham LLC, Exelon Generation Company, LLC, Exelon New Boston, LLC, Exelon New England Power Marketing, LP, Exelon West Medway, LLC, Exelon Wind 4, LLC, Exelon Wyman, LLC Handsome Lake Energy, LLC, Harvest Windfarm, LLC, Michigan Wind 1, LLC, Michigan Wind 2, LLC, PECO Energy Company, Safe Harbor Water Power Corporation, Tuana Springs Energy, LLC, Wildcat Wind, LLC, Wind Capital Holdings, LLC.

Description: Notice of Non-Material Change in Status of Exelon MBR Entities.

Filed Date: 6/29/12.

Accession Number: 20120629-5297.

Comments Due: 5 p.m. ET 7/20/12.

Docket Numbers: ER12-1989-001.

Applicants: SunPower Corporation, Systems.

Description: SunPower Corporation, Systems submits tariff filing per 35.17(b): SunPower Corporation, Systems MBR Filing to be effective 7/7/2012.

Filed Date: 7/3/12.

Accession Number: 20120703-5080.

Comments Due: 5 p.m. ET 7/24/12.

Docket Numbers: ER12-2195-000.

Applicants: ISO New England Inc.

Description: ISO New England Inc. submits tariff filing per 35.13(a)(2)(iii) FTR Annual and Monthly Auction Changes—Part 1 of 2 to be effective 10/1/2011.

Filed Date: 7/3/12.

Accession Number: 20120703-5073.

Comments Due: 5 p.m. ET 7/24/12.

Docket Numbers: ER12-2195-001.

Applicants: ISO New England Inc.

Description: ISO New England Inc. submits tariff filing per 35.17(b): Amendment to FTR Annual and Monthly Changes—Part 1 of 2 to be effective 10/1/2012.

Filed Date: 7/3/12.

Accession Number: 20120703-5113.

Comments Due: 5 p.m. ET 7/24/12.

Docket Numbers: ER12-2196-000.

Applicants: Southwest Power Pool, Inc.

Description: Southwest Power Pool, Inc. submits tariff filing per 35.13(a)(2)(iii) Cancellation Submission of 1522R1 Kansas City Power & Light Co. LGIA to be effective 6/5/2012.

Filed Date: 7/3/12.

Accession Number: 20120703-5093.

Comments Due: 5 p.m. ET 7/24/12.

Docket Numbers: ER12-2197-000.

Applicants: Westar Energy, Inc.

Description: Westar Energy, Inc. submits tariff filing per 35.13(a)(2)(iii) KEPCo, Revs to Attachment A—Delivery Points (09/01/12) to be effective 9/1/2012.

Filed Date: 7/3/12.

Accession Number: 20120703-5115.

Comments Due: 5 p.m. ET 7/24/12.

Docket Numbers: ER12-2198-000.

Applicants: ISO New England Inc.

Description: ISO New England Inc. Resource Termination for Conservation Services Group.

Filed Date: 7/3/12.

Accession Number: 20120703-5119.

Comments Due: 5 p.m. ET 7/24/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 3, 2012.
Nathaniel J. Davis, Sr.,
Deputy Secretary.

[FR Doc. 2012-16958 Filed 7-11-12; 8:45 am]

BILLING CODE 6717-01-P